DEPARTMENT OF HEALTH AND HUMAN SERVICES

Office of the National Coordinator; American Health Information Community Consumer Empowerment Workgroup Meeting

ACTION: Announcement of meeting.

SUMMARY: This notice announces the fourth meeting of the American Health Information Community Consumer Empowerment workgroup in accordance with the Federal Advisory Committee Act (Pub. L. 92—463, 5 U.S.C., App.).

DATES: April 25, 2006 from 1 p.m. to 4 p.m.

ADDRESSES: Mary C. Switzer Building (330 C Street, SW., Washington, DC 20201), Conference Room 4090.

FOR FURTHER INFORMATION CONTACT: http://www.hhs.gov/healthit/ahic/cc_main.html.

SUPPLEMENTARY INFORMATION: The meeting will be available via Web cast at http://www.eventcenterlive.com/cfmx/ec/login/login1.cfm?BID=67.

Dated: April 3, 2006.
Kelly Cronin,
Director, Office of Programs and Coordination; Office of the National Coordinator.

[FR Doc. 06-3499 Filed 4-11-06; 8:45 am]

BILLING CODE 4150-24-M